DEPARTMENT OF HEALTH AND HUMAN SERVICES

Administration for Children and Families

Proposed Information Collection Activity; Comment Request

Proposed Project:

Title: Communities Empowering Youth Evaluation Study.

OMB No.: New Collection.

Description: The information collection activity proposed under this notice will obtain information about lead and partner organizations funded under the Communities Empowering Youth (CEY) program. The information collected will complement a survey (OMB No. 0970-0335) that is examining the organizational and partnership capacity building experienced by organizations funded under the CEY program. The proposed information collection will allow in-depth examination of a select number of lead organizations and their partners. Information collection will be through on-site observations of organizations and partnerships and structured discussions with key staff, using uniform protocols. On-site information collection will occur three times: near the beginning, at the mid point, and at the end of the three-year CEY grant period. Periodic telephone follow-ups may be conducted as necessary between on-site data collection in order to clarify or update information collected earlier and to prepare for future site visits.

Respondents: Executive directors and key staff of faith based and community organizations that received three-year CEY grants beginning in 2007.

Annual Burden Estimates
Instrument | Number of respondents | Number of responses per respondent | Average burden hours per response | Total burden hours
Lead Organization Executive Director | 10 | 1 | 2.5 | 25
Lead Organization Key Staff | 20 | 1 | 1.5 | 30
Partner Organization Executive Director | 60 | 1 | 2.5 | 150
Partner Organization Key Staff | 60 | 1 | 1.5 | 90
Estimated Total Annual Burden Hours |  |  |  | 295

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447. Attn: ACF Reports Clearance Officer. E-mail address: OPRElfoCollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents. Consideration will be given to comments and suggestions submitted within 60 days of this publication.

Dated: March 20, 2008.
Brendan C. Kelly,
OPRE Reports Clearance Officer.

[FR Doc. E8-6340 Filed 3-28-08; 8:45 am]

BILLING CODE 4184-01-M